DEPARTMENT OF VETERANS AFFAIRS

38 CFR Parts 3 and 4

RIN 2900-AN22

Pension Management Center Manager

AGENCY: Department of Veterans Affairs.

ACTION: Final rule.

SUMMARY: This document amends the Department of Veterans Affairs (VA) regulations to add the Pension Management Center Manager as a person who, in addition to the Veterans Service Center Manager, is authorized to review decisions on benefit claims and authorized to approve permanent and total disability evaluations on an extraschedular basis for pension purposes. These changes are made to reflect the duties of the Pension Management Center Manager.

DATES: Effective Date: June 5, 2009.

FOR FURTHER INFORMATION CONTACT: Thomas J. Kniffen, Chief, Regulations Staff (211D), Compensation and Pension Service, Veterans Benefits Administration, Department of Veterans Affairs, 810 Vermont Avenue, NW., Washington, DC 20420, (202) 461-9725.

SUPPLEMENTARY INFORMATION: In fiscal year 2002, all VA pension management activities were consolidated from the VA's Regional Offices to three Pension Management Centers (PMCs), which are located in Philadelphia, Pennsylvania, Milwaukee, Wisconsin, and St. Paul, Minnesota. Recently, VA has decided to consolidate nearly all of its pension activities (including original pension claims processing), which were previously done at regional office Veterans Service Centers (VSCs), to the PMCs.

Therefore, most activities involving pension that would previously have been within the duties of the Veterans Service Center Manager (VSCM) at the VSC will be transferred to the Pension Management Center Manager (PMCM) at the PMC. This rulemaking amends 38 CFR 3.2600, as well as 38 CFR 3.321 and 4.17, to reflect the position of the PMCM as the person authorized to perform these activities. Specifically, these activities are reviewing benefit decisions under § 3.2600 and determining entitlement to permanent and total disability ratings, on an extraschedular basis, for pension purposes under § 3.321(b)(2) and § 4.17(b). Adding the PMCM as a person authorized to perform these activities allows claims involving both compensation and pension to be processed at either the PMC or the VSC, as appropriate.

We are not intending any substantive change to the regulations, merely including the new position of the PMCM in VA's regulations.

Administrative Procedure Act

This document is being published as a final rule pursuant to 5 U.S.C. 553, which excepts matters pertaining to internal agency management and personnel from its notice, comment, and delayed effective date requirements.

Paperwork Reduction Act

This document contains no provisions constituting a collection of information under the Paperwork Reduction Act (44 U.S.C. 3501-3521).

Regulatory Flexibility Act

The Secretary hereby certifies that this final rule will not have a significant economic impact on a substantial number of small entities as they are defined in the Regulatory Flexibility Act, 5 U.S.C. 601-612. This final rule would not affect any small entities. Only VA's internal procedures for processing claims of individuals will be directly affected. Therefore, pursuant to 5 U.S.C. 605(b), this final rule is exempt from the initial and final regulatory flexibility analysis requirements of sections 603 and 604.

Executive Order 12866-Regulatory Planning and Review

Executive Order 12866 directs agencies to assess all costs and benefits of available regulatory alternatives and, when regulation is necessary, to select regulatory approaches that maximize net benefits (including potential economic, environmental, public health and safety, and other advantages; distributive impacts; and equity). The Executive Order classifies a “significant regulatory action,” requiring review by the Office of Management and Budget (OMB) unless OMB waives such review, as any regulatory action that is likely to result in a rule that may: (1) Have an annual effect on the economy of $100 million or more or adversely affect in a material way the economy, a sector of the economy, productivity, competition, jobs, the environment, public health or safety, or State, local, or tribal governments or communities; (2) Create a serious inconsistency or otherwise interfere with an action taken or planned by another agency; (3) Materially alter the budgetary impact of entitlements, grants, user fees, or loan programs or the rights and obligations of recipients thereof; or (4) Raise novel legal or policy issues arising out of legal mandates, the President's priorities, or the principles set forth in the Executive Order.

The economic, interagency, budgetary, legal, and policy implications of this final rule have been examined and it has been determined not to be a significant regulatory action under Executive Order 12866.

Unfunded Mandates

The Unfunded Mandates Reform Act of 1995 requires, at 2 U.S.C. 1532, that agencies prepare an assessment of anticipated costs and benefits before issuing any rule that may result in the expenditure by State, local, and tribal governments, in the aggregate, or by the private sector, of $100 million or more (adjusted annually for inflation) in any year. This final rule would have no such effect on State, local, and tribal governments, or on the private sector.

Catalog of Federal Domestic Assistance Numbers and Titles

The Catalog of Federal Domestic Assistance program numbers and titles for this rule are 64.104, Pension for Non-Service-Connected Disability for Veterans; and 64.105, Pension to Veterans Surviving Spouses, and Children.

List of Subjects

38 CFR Part 3

Administrative practice and procedure, Claims, Disability benefits, Health care, Pensions, Radioactive materials, Veterans, Vietnam.

38 CFR Part 4

Disability benefits, Pensions, Veterans.

Approved: April 28, 2009.
John R. Gingrich,
Chief of Staff, Department of Veterans Affairs.

For the reasons set forth in the preamble, 38 CFR parts 3 and 4 are amended as follows:

PART 3—ADJUDICATION

Subpart A—Pension, Compensation, and Dependency and Indemnity Compensation

1. The authority citation for part 3, subpart A continues to read as follows:

Authority: 38 U.S.C. 501(a), unless otherwise noted.

§ 3.321 [Amended]

2. Section 3.321(b)(2) is amended by removing “Manager;” and adding, in its place, “Manager or the Pension Management Center Manager;”.

Subpart D—Universal Adjudication Rules That Apply to Benefit Claims Governed by Part 3 of This Title

3. The authority citation for part 3, subpart D continues to read as follows:

Authority: 38 U.S.C. 501(a), unless otherwise noted.

4. Section 3.2600(a) is amended by revising the second sentence to read as follows:

§ 3.2600 Revision of benefit claims decisions.

(a) * * * The review will be conducted by a Veterans Service Center Manager, Pension Management Center Manager, or Decision Review Officer, at VA's discretion. * * *

* * * * *

PART 4—SCHEDULE FOR RATING DISABILITIES

5. The authority citation for part 4 continues to read as follows:

Authority: 38 U.S.C. 1155, unless otherwise noted.

Subpart A—General Policy in Rating

§ 4.17 [Amended]

6. Section 4.17(b) is amended by removing “Manager” and adding, in its place, “Manager or the Pension Management Center Manager”.

[FR Doc. E9-13211 Filed 6-4-09; 8:45 am]

BILLING CODE 8320-01-P